DEPARTMENT OF THE INTERIOR

Fish and Wildlife Service

[Docket No. FWS-HQ-IA-2025-0935; FXIA16710900000/267/FF09A30000; OMB Control Number 1018-0093]

Agency Information Collection Activities; Federal Fish and Wildlife Permit Applications and Reports—Management Authority

AGENCY: Fish and Wildlife Service, Interior.

ACTION: Notice of information collection; request for comment.

SUMMARY: In accordance with the Paperwork Reduction Act of 1995, we, the U.S. Fish and Wildlife Service (Service), are proposing to renew a currently approved information collection without change.

DATES: Interested persons are invited to submit comments on or before February 23, 2026.

ADDRESSES: Send your comments on the information collection request (ICR) by one of the following methods (please reference the Office of Management and Budget (OMB) Control No. 1018-0093 in the subject line of your comment):

• Internet (preferred): https://www.regulations.gov. Follow the instructions for submitting comments on Docket No. FWS-HQ-MB-2025-0803.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid OMB control number.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The general permit requirements at 50 CFR part 13 provide the uniform rules, conditions, and procedures for the application for, and the issuance, denial, suspension, revocation, and general administration of, all permits for all of the laws, treaties, and regulations administered by the Service that authorize activities requiring permits. The requirements in 50 CFR part 13 are in addition to any other permit regulations that may apply to a specific circumstance and are outlined in other sections of our regulations.

The Wild Bird Conservation Act (WBCA; 16 U.S.C. 4901-4916) and the Convention on International Trade in Endangered Species of Wild Fauna and Flora (CITES; 27 U.S.T. 1087, March 3, 1973) mandate a system of permits and certificates to help ensure that international trade is legal and does not threaten the survival of wildlife or plant species in the wild. Permits under the U.S. Endangered Species Act (ESA; 16 U.S.C. 1531 et seq.) and the Marine Mammal Protection Act (MMPA; 16 U.S.C. 1361 et seq.) ensure that activities are consistent with the intent and purposes of the ESA and MMPA. Permitted activities under the Bald and Golden Eagle Act (BGEPA; 16 U.S.C. 668-668d) must be compatible with the preservation of eagles. Permitted activities regarding injurious wildlife under the Lacey Act (18 U.S.C. 42; 16 U.S.C. 3371-3378) regulate the importation into the United States and any shipment between the continental United States, the District of Columbia, Alaska, Hawaii, the Commonwealth of Puerto Rico, or any possession of the United States, of animal species determined to be injurious by the Secretary of the Interior. Such importation and shipments are prohibited, except by permit. Although the Service's Division of Management Authority does not administer the Migratory Bird Treaty Act (MBTA; 16 U.S.C. 704), we receive authorization from the Migratory Bird Program to issue import/export permits under the MBTA.

Prior to the import or export of species listed under the MBTA, MMPA, BGEPA, Lacey Act, WBCA, ESA, and/or CITES, the Management Authority and Scientific Authority must make appropriate determinations and issue the appropriate documents. Section 8A of the ESA designates the Secretary of the Interior as the U.S. Management Authority and U.S. Scientific Authority for CITES. The Secretary in turn delegated these authorities to the Service.

Before a country can issue an export permit for CITES appendix I or II specimens, the CITES Scientific Authority of the exporting country must determine that the export will not be detrimental to the survival of the species, and the Management Authority must be satisfied that the specimens were acquired legally. For the export of appendix III specimens, the Management Authority must be satisfied that the specimens were acquired legally (CITES does not require findings from the Scientific Authority). Prior to the importation of appendix I specimens, both the Scientific Authority and the Management Authority of the importing country must make required findings. The Scientific Authority must also monitor trade of all species to ensure that the level of trade is sustainable.

Article VIII(3) of the CITES treaty states that participating parties should make efforts to ensure that CITES specimens are traded with a minimum of delay. Section XIII of Resolution Conf. 12.3 (Rev. CoP19) recommends use of simplified procedures for issuing CITES documents to expedite trade that will have no impact, or a negligible impact, on conservation of the species involved.

Applications and Reports

All Service permit applications and reports are in the 3-200 series of forms, each tailored to a specific activity based on the requirements for specific types of permits. In accordance with Federal regulations at 50 CFR 13.12, we collect standard identifier information for all permit applications, such as:

• Applicant's full name, whether an individual or business, and address (street address, city, county, State, and zip code; and mailing address, if different from street address); main and alternate telephone numbers; and an email address (required if filing electronically, optional for a mail-in application); and

—If the applicant resides or is located outside the United States, an address in the United States, and, if the applicant is conducting commercial activities, the name and address of the applicant's agent inside the United States; and

—If the applicant is a business, corporation, public agency, or institution, the tax identification number; description of the business type, corporation, agency, or institution; and the name and title of the person responsible for the permit (such as president, principal officer, or director);

• Location where the requested permitted activity is to occur or be conducted;

• Reference to the part(s) and section(s) of subchapter B as listed in paragraph (b) of 50 CFR part 13 under which the application is made for a permit or permits, together with any additional justification, including supporting documentation as required by the referenced part(s) and section(s);

• If the requested permitted activity involves the import or re-export of wildlife or plants from or to any foreign country, and the country of origin, or the country of export or re-export restricts the taking, possession, transportation, exportation, or sale of wildlife or plants, documentation as indicated in § 14.52(c) of subchapter B;

• Certification containing the following language:

—I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.

• Desired effective date of permit (except where issuance date is fixed by the part under which the permit is issued);

• Signature date;

• Signature of the applicant;

• Such other information as the Director determines relevant to the processing of the application; and

• Additional information required on applications for other types of permits may be found by referring to table 1 in paragraph (b) in 50 CFR 13.12.

Standardization of general information common to the forms makes the filing of applications easier for the public, as well as expediting our review of applications. The information that we collect on applications and reports is the minimum necessary for us to determine if the applicant meets/continues to meet issuance requirements for the particular activity.

Miscellaneous Information Collections

• Request for Approval of a CITES Export Program (American Ginseng, CITES furbearers, American Alligator), 50 CFR 23.68, 50 CFR 23.69, and 50 CFR 23.70—For States and Tribes that set up and maintain management programs for these species to protect from over-harvest, requesting approval of their management plans allows the Division of Scientific Authority to make programmatic findings under specific requirements that allow the export of these species under CITES. These programmatic findings streamline the permit process for applicants.

• Report for Furbearer CITES Export Programs, 50 CFR 23.69(b)(3)—A State or Tribe with an approved CITES export program must submit a CITES furbearer activity report that provides information as to whether or not the population status or management of the species has changed within the State or Tribal lands. If information has not changed, the report may reference information provided in previous years. Range-wide non-detriment findings are re-evaluated at least every 5 years, or sooner if information indicates that there has been a change in the status of management of the species that might lead to different treatment of the species.

• Report for American Alligator CITES Export Program, 50 CFR 23.70(c)(2)—A State or Tribe with an approved CITES export program must submit a CITES American alligator activity report that provides information as to whether or not the population status or management of the species has changed within the State or Tribal lands. If information has not changed, the report may reference information provided in previous years. Range-wide non-detriment findings are re-evaluated at least every 5 years, or sooner if information indicates that there has been a change in the status of management of the species that might lead to different treatment of the species.

• Report—Plant Rescue Program Receipt and Condition of Specimens, 50 CFR 23.79—Seized plants that are placed with a registered Plant Rescue Center may be required to account periodically for the donation or loan regarding the receipt of those specimens and the condition in which they arrived.

• Report Take (Grizzly Bears), 50 CFR 17.40(b)—Grizzly bears taken in self-defense or in the defense of others by individuals or their designee in Montana or Wyoming must report the take to the U.S. Fish and Wildlife Service's Office of Law Enforcement within 5 days of the said take. If taken in Idaho or Washington said take must also be reported to the appropriate State and Tribal authorities.

• Report Take (Mountain Lion), 50 CFR 17.40(h)—Mountain lions taken in the State of Florida must be reported to the U.S. Fish and Wildlife Service's Office of Law Enforcement within 5 days of the said take.

• Application—Participation in the Plant Rescue Center Program, 50 CFR 23.79—The Plant Rescue Center Program is established to place confiscated live plants quickly to prevent physical damage to plants. Entities that wish to participate may submit a letter requesting participation. A request to become part of the Plant Rescue Center Program comes via a letter. The requestor must address the requirements in the regulation.

• Marking/Labeling Requirements—The following contain marking/labeling requirements outlined in the regulations. We do not collect information on this; rather, if items show up with these species without the necessary labelling/marking and permits, they will be seized.

○ Vicuna Products, Beluga Sturgeon Caviar, and African Elephant Sport Hunted Trophies, 50 CFR 23.75, 50 CFR 23.71, 50 CFR 17.44(y), and 50 CFR 17.40(e)

○ Beluga Sturgeon Exemption, 50 CFR 17.44(y)(3)

○ Wildlife Hybrid Exemption, 50 CFR 23.43

○ Exception to Use of CITES Specimens after Import, 50 CFR 23.55

• International Reporting Requirements—The Service imposes international reporting requirements specified in 50 CFR parts 13, 17, 18, and 23. These reporting requirements are associated with the findings we must make under the various laws, treaties, and regulations administered by the Service. This may include consultation on sustainable use, population data, management practices, and verification of information received from other sources. The Service does not provide a form for this collection; rather, we request specific information based on the most current data we hold, in order to enable us to update or clarify that data. We estimate the annual burden associated with the international reporting requirements to be 24 responses and 192 burden hours. There are no nonhour burden costs associated with the international reporting requirements.

• Recordkeeping Requirements, 50 CFR 13.46—Permittees must keep records of all activities conducted under certain permits, including those of subpermittees carried out under the authority of the permit, as well as documentation of any take that occurs from the permitted activity and the data gathered through surveys and monitoring. We use these data to assess the conservation benefits or detriments to plant and wildlife populations. Additionally, under 50 CFR 13.47, the Service may enter a permittee's premises at any reasonable hour to inspect any wildlife or plant held or to inspect, audit, or copy any permits, books, or records required to be kept by these regulations for compliance under the permit conditions

• Amendments to Permit Applications—Amendments to a permit may be requested by the permittee, or the Service may amend a permit for just cause upon a written finding of necessity. Amendments comprise changes to the permit authorization or conditions. The permittee must apply for amendments to the permit by submitting a description of the modified activity and the changed impacts. These are considered substantive amendments and incur a fee. For CITES permits, if there is a change in the legal individual or business name, this is considered a substantive amendment and incurs a fee. For federal permits, a permittee is not required to obtain a new permit if there is a change in the legal individual or business name, or in the mailing address of the permittee. A permittee is required to notify the issuing office within 10 calendar days of such change. This provision does not authorize any change in location of the conduct of the permitted activity when approval of the location is a qualifying condition of the permit.

The public may access the currently approved versions of all forms contained in this information collection at https://www.reginfo.gov/public/do/PRAICList?ref_nbr=202302-1018-009.

Title of Collection: Federal Fish and Wildlife Permit Applications and Reports—Management Authority (50 CFR 13, 15, 16, 17, 18, 22, 23).

OMB Control Number: 1018-0093.

Form Numbers: 3-200-19 through 3-200-37, 3-200-39 through 3-200-42, 3-200-43a through 3-200-43d, 3-200-46 through 3-200-53, 3-200-58, 3-200-61, 3-200-64 through 3-200-66, 3-200-69, 3-200-70, 3-200-73 through 3-200-76, 3-200-80, and 3-200-85 through 3-200-88.

Type of Review: Extension without change of a currently approved collection.

Description of Respondents/Affected Public: Individuals (including hunters); private sector (including biomedical companies, circuses, zoological parks, botanical gardens, nurseries, museums, universities, antique dealers, exotic pet industry, taxidermists, commercial importers/exporters of wildlife and plants, freight forwarders/brokers); and State, local, Tribal, and Federal government agencies.

Estimated Number of Annual Respondents: 6,139.

Estimated Number of Annual Responses: 8,946.

Estimated Completion Time per Response: Varies from 15 minutes to 40 hours, depending on activity.

Estimated Annual Burden Hours: 9,035.

Respondent's Obligation: Required to obtain or retain a benefit.

Frequency of Collection: On occasion or annually, depending on activity.

Total Estimated Annual Nonhour Burden Cost: $576,387 for costs associated with application processing fees, which range from $0 to $250. There is no fee for reports. State, local, Tribal, and Federal government agencies and those acting on their behalf are exempt from processing fees.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2025-23694 Filed 12-22-25; 8:45 am]

BILLING CODE 4333-15-P